DEPARTMENT OF COMMERCE

International Trade Administration

[A-475-818]

Certain Pasta From Italy: Notice of Partial Rescission of Antidumping Duty Administrative Review

AGENCY: Import Administration, International Trade Administration, Department of Commerce.

DATES: Effective Date: April 3, 2013.

FOR FURTHER INFORMATION CONTACT: Stephanie Moore or George McMahon AD/CVD Operations, Office 8, Import Administration, International Trade Administration, U.S. Department of Commerce, 14th Street and Constitution Avenue NW., Washington, DC 20230; telephone: (202) 482-3692 or (202) 482-1167, respectively.

SUPPLEMENTARY INFORMATION:

Background

On July 2, 2012, the Department of Commerce (the Department) published a notice of opportunity to request an administrative review of the antidumping duty order on certain pasta from Italy.¹ Pursuant to requests from interested parties, the Department published in the Federal Register the notice of initiation of this antidumping duty administrative review with respect to the following companies for the period July 1, 2011, through June 30, 2012: Alberto Poiatti S.p.A (Poiatti), Delverde Industrie Alimentari S.p.A. (Delverde), Industria Alimentare Colavita, S.p.A. (Indalco), Pasta Lensi S.r.L. (Lensi), Pastificio Attilio Mastromauro-Pasta Granoro S.r.L. (Granoro), Pastificio Gallo Natale & F. Ili S.r.L. (Gallo), Fiamma Vesuviana S.r.L. (Fiamma), Pastificio Zaffiri S.r.L (Zaffiri), Rummo S.p.A. Molino e Pastificio (Rummo), Tandoi Filippo e Adalberto Fratelli S.p.A. (Tandoi), and Valdigrano di Flavio Pagani S.r.L. (Valdigrano).²

¹ See Antidumping or Countervailing Duty Order, Finding, or Suspended Investigation; Opportunity To Request Administrative Review, 77 FR 39216 (July 2, 2012).

² See Initiation of Antidumping and Countervailing Duty Administrative Reviews and Request for Revocation in Part, 77 FR 52688 (August 30, 2012) (Initiation).

On August 31, 2012 the Department announced its intention to select mandatory respondents based on U.S. Customs and Border Protection (CBP) data.³ On September 24, 2012, the Department selected Indalco and Rummo as mandatory respondents.⁴

³ See Memorandum from George McMahon through James Terpstra to Melissa Skinner titled, “Customs and Border Protection Data for Selection of Respondents for Individual Review,” dated August 31, 2012.

⁴ See Memorandum from George McMahon through James Terpstra to Melissa Skinner titled, “Selection of Respondents for Individual Review,” dated September 24, 2012.

On November 30, 2012, Indalco and Lensi timely withdrew their respective requests for a review. Thus, on December 11, 2012, the Department selected Gallo and Granoro as additional mandatory respondents.

On February 8, 2013, the Department published a notice revoking Granoro from the antidumping duty order.⁵ The effective date of Granoro's revocation from the antidumping duty order is July 1, 2011.⁶

⁵ See Certain Pasta From Italy: Notice of Final Results of 15th Antidumping Duty Administrative Review, Final No Shipment Determination and Revocation of Order, in Part; 2010-2011, 78 FR 9364 (February 8, 2013) (Final Results), and accompanying Issues and Decision Memorandum for additional details.

⁶ See id. See also CBP Public Message Number: 3057301, dated February 26, 2013.

Partial Rescission of the 2011-2012 Administrative Review

Pursuant to 19 CFR 351.213(d)(1), the Secretary will rescind an administrative review, in whole or in part, if the parties that requested a review withdraw the request within 90 days of the date of publication of the notice of initiation of the requested review. The instant review was initiated on August 30, 2012. See Initiation. Indalco and Lensi both withdrew their requests for a review on November 30, 2012, which is within the 90-day deadline. No other party requested an administrative review of these particular companies. Therefore, in accordance with 19 CFR 351.213(d)(1), and consistent with our practice, we are rescinding this review of the antidumping duty order on certain pasta from Italy, in part, with respect to Indalco and Lensi.⁷ Additionally, we are rescinding this review with respect to Granoro because this company has been revoked from the antidumping duty order.⁸ The instant review will continue with respect to Poiatti, Delverde,⁹ Gallo, Fiamma, Zaffiri, Rummo, Tandoi, and Valdigrano.

⁷ See, e.g., Certain Lined Paper Products From India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

⁸ See Final Results.

⁹ On September 25, 2012, Delverde submitted a “qualified no-shipment letter” in which Delverde declared that “it made no shipments of subject merchandise during the POR, because it was excluded from the antidumping duty order in the original investigation.” We are currently conducting a Changed Circumstances Review of Delverde to determine whether Delverde is the successor-in-interest to the company that was excluded from the order.

Assessment

The Department will instruct CBP to assess antidumping duties on all appropriate entries. For the companies for which this review is rescinded, Indalco and Lensi, antidumping duties shall be assessed at rates equal to the cash deposit of estimated antidumping duties required at the time of entry, or withdrawal from warehouse, for consumption, during the period July 1, 2011, through June 30, 2012, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping and/or countervailing duties occurred and the subsequent increase in the amount of antidumping and/or countervailing duties reimbursed.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: March 27, 2013.
Edward C. Yang,
Senior Director, China/Non-Market Economy Unit .

[FR Doc. 2013-07746 Filed 4-2-13; 8:45 am]

BILLING CODE 3510-DS-P